ENVIRONMENTAL PROTECTION AGENCY

[EPA-HQ-OPP-2006-0936; FRL-8119-2]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before May 4, 2007.

ADDRESSES: Submit your comments, identified by docket identification (ID) number and the pesticide petition number (PP) of interest, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP number | Docket ID number
PP 3E6562 | EPA-HQ-OPP-2007-0107
PP 6E7138 | EPA-HQ-OPP-2007-0107
PP 6E7129 | EPA-HQ-OPP-2007-0106
PP 6E7152 | EPA-HQ-OPP-2007-0116
PP 6E7163 | EPA-HQ-OPP-2007-0105
PP 6E7165 | EPA-HQ-OPP-2007-0117
PP 5E6962 | EPA-HQ-OPP-2005-0305
PP 5E7007 | EPA-HQ-OPP-2005-0305
PP 6E7164 | EPA-HQ-OPP-2007-0115
PP 6E7168 | EPA-HQ-OPP-2007-0114
PP 5E6996 | EPA-HQ-OPP-2005-0306

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

Amendment to Existing Tolerances

1. PPs 3E6562 and 6E7138. (Docket ID number EPA-HQ-OPP-2007-0107). Interregional Research Project Number 4 (IR-4), 500 College Road East, Suite 201 W, Princeton, NJ 08540, proposes to amend 40 CFR 180.443 by establishing tolerances for residues of the fungicide myclobutanil in or on the food commodities in PP 3E6562: Black sapote, canistel, mamey sapote, mango, papaya, sapodilla, and star apple at 3.0 parts per million (ppm); and in PP 6E7138: Fruiting vegetables, crop group 8, except tomato at 4.5 ppm; leafy vegetables, crop subgroup 4A, except spinach at 11.0 ppm; globe artichoke at 0.9 ppm; cilantro at 11.0 ppm; and okra at 4.5 ppm. The residue analytical method used was Rohm and Haas Company method 34S-88-10, “RH-3866 total residue analytical method for apple, and grape” for artichokes, lettuce, pepper, and tropical fruits; and Rohm and Haas method TR34S-88-21, “Analytical method for the measure of RH-3866 in various crops, soil, meat, milk and eggs”. The lowest level of method validation (LLMV) in this study was 0.01 ppm for each analyte. Based on recoveries of samples fortified at the LLMV, the limit of detection (LOD) and the limit of quantitation (LOQ) were estimated as 0.0036 ppm and 0.011 ppm; respectively, for myclobutanil as 0.018 ppm and 0.054 ppm; respectively, for RH-9090. Contact: Barbara Madden, telephone number: (703) 305-6463; e-mail address: madden.barbara@epa.gov.

2. PP 6E7129. (Docket ID number EPA-HQ-OPP-2007-0106). Interregional Research Project Number 4 (IR-4), 500 College Road East, Suite 201 W, Princeton, NJ 08540, proposes to amend 40 CFR 180.361 by establishing tolerances for residues of the herbicide pendimethalin, [N-(1-ethylpropyl)-3,4-dimethyl-2,6-dinitrobenzenamine] and its metabolite 4-[(1-ethylpropyl)amino]-2-methyl-3,5-dinitrobenzyl alcohol in or on the food commodities Brassica, head and stem, subgroup 5A at 0.05 ppm; grape at 0.05 ppm; artichoke, globe at 0.05 ppm; and asparagus at 0.1 ppm. The analytical method in plants is aqueous organic solvent extraction, column clean-up, and quantitation by gas chromatography (GC). The method has a LOQ of 0.05 ppm for pendimethalin and the alcohol metabolite. Contact: Barbara Madden, telephone number: (703) 305-6463; e-mail address: madden.barbara@epa.gov.

3. PP 6E7152. (Docket ID number EPA-HQ-OPP-2007-0116). Interregional Research Project Number 4 (IR-4), 500 College Road East, Suite 201 W, Princeton, NJ 08540, proposes to amend 40 CFR 180.361 by establishing tolerances for residues of the herbicide dimethenamid, (R,S)-2-chloro-N-[(1-methyl-2-methoxy) ethyl]-N-(2,4-dimethyl-thien-3-yl)-acetamide in or on the food commodities squash, winter at 0.01 ppm; pumpkin at 0.01 ppm; radish, roots at 0.01 ppm; radish, tops at 0.01 ppm; turnip, roots at 0.01 ppm; turnip, tops at 0.01 ppm; rutabaga, roots at 0.01 ppm; rutabaga, tops at 0.01 ppm; and hops, dried cones 0.05 ppm. The proposed analytical method uses extraction and clean-up followed by quantification with capillary column GC using thermionic nitrogen specific detector. A gas spectrometry/mass spectrometry (GS/MS) method for identification is also available. This method is not selective towards the dimethenamid isomer and is therefore valid for residues from both racemic dimethenamid and the enriched isomer dimethenamid-P. Tolerances are proposed based on a non-isomer specific basis. Contact: Shaja Brothers, telephone number: (703) 308-3194; e-mail address: brothers.shaja@epa.gov.

4. PP 6E7163. (Docket ID number EPA-HQ-OPP-2007-0105). Interregional Research Project Number 4 (IR-4), 500 College Road East, Suite 201 W, Princeton, NJ 08540, proposes to amend 40 CFR 180.578 by establishing tolerances for residues of the insecticide acetamiprid, N1-[(6-chloro-3-pyridyl)methyl]-N2-cyano-N1-methylacetamidine in or on the food commodities strawberry, bearberry, bilberry, lowbush blueberry, cloudberry, cranberry, ligonberry, muntries, and partridgeberry at 0.60 ppm. Based upon the metabolism of acetamiprid in plants and the toxicology of the parent, and metabolites quantification of the parent acetamiprid is sufficient to determine toxic residues. As a result, a method has been developed which involves extraction of acetamiprid from crops with methanol and analysis by liquid chromatography/tandem mass spectrometry (LC/MS/MS) methods. The LOQ and the LOD for the method are calculated to be 0.002 ppm and 0.0008 ppm for strawberries, respectively. The LLMV for strawberries was 0.01 ppm for acetamiprid. Contact: Barbara Madden, telephone number: (703) 305-6463; e-mail address: madden.barbara@epa.gov.

5. PP 6E7165. (Docket ID number EPA-HQ-OPP-2007-0117). Interregional Research Project Number 4 (IR-4), 500 College Road East, Suite 201 W, Princeton, NJ 08540, proposes to amend 40 CFR 180.582 by establishing tolerances for residues of the fungicide pyraclostrobin, (carbamic acid, [2-[[[1-(4-chlorophenyl)-1H-pyrazol-3-yl]oxy]methyl] phenyl]methoxy-, methyl ester) and its metabolite (methyl-N-[[[1-(4-chlorophenyl) pyrazol-3-yl]oxy]o-tolyl] carbamate) (BF 500-3) expressed as parent compound in or on the food commodities herbs, fresh at 30.0 ppm; avocado at 0.7 ppm; mango at 0.7 ppm; papaya at 0.7 ppm; sapote, black at 0.7 ppm; sapote, mamey at 0.7 ppm; canistel at 0.7 ppm; sapodilla at 0.7 ppm; and star apple at 0.7 ppm. In plants the method of analysis is aqueous organic solvent extraction, column clean-up and quantitation by LC/MS/MS. In animals the method of analysis involves base hydrolysis, organic extraction, column clean up and quantitation by LC/MS/MS or derivatization (methylation) followed by quantitation by GC/MS. Contact: Shaja R. Brothers, telephone number: (703) 308-3194; e-mail address: brothers.shaja@epa.gov.

6. PP 5E6962. (Docket ID number EPA-HQ-OPP-2005-0305). Interregional Research Project Number 4 (IR-4), 681 U.S. Highway #1 South, North Brunswick, NJ 08902-3390; and Bayer CropScience, 2 T.W. Alexander Drive, Research Triangle Park, NC 27709, proposes to amend the tolerances in 40 CFR 180.570 for residues of the isoxadifen-ethyl (ethyl 5,5-diphenyl-2-isoxazoline -3-carboxylate) and its metabolite 4,5-dihydro-5,5,diphenyl-3-isoxazolecarboxylic acid when used as an inert ingredient (safener) in or on the food commodities corn, field, forage at 0.20 ppm (increased from existing tolerance of 0.10 ppm), and corn, field, stover at 0.40 ppm (increased from existing tolerance of 0.20 ppm); (request removal of the specified limitation in seasonal application rate from the existing tolerances); and isoxadifen-ethyl and its metabolites 4,5-dihydro-5,5,diphenyl -3-isoxazolecarboxylic acid and β-hydroxy-β-benzenepropanenitrile when used as an inert ingredient (safener) in or on the following raw agricultural commodities: Rice, grain at 0.10 ppm; rice, hulls at 0.50 ppm; and rice, straw at 0.25 ppm (request removal of the specified limitation in seasonal application rate from the existing tolerances). The analytical targets selected were the parent compound, isoxadifen-ethyl and the major metabolite isoxadifen acid (AE F129431). In rice, AE C637375 and AE F162241 are also determined. After extraction and cleanup, the analytes are determined by either GC/MS or HPLC/MS. The LOQ are 0.02 ppm in corn grain, 0.05 ppm in corn forage and stover, and 0.02 ppm in rice. Contact: Shaja R. Brothers, telephone number: (703) 308-3194; e-mail address: brothers.shaja@epa.gov.

New Tolerances

1. PP 5E7007. (Docket ID number EPA-HQ-OPP-2005-0305). Interregional Research Project Number 4 (IR-4), 681 U.S. Highway #1 South, North Brunswick, NJ 08902-3390; and Bayer CropScience, 2 T.W. Alexander Drive, Research Triangle Park, NC 27709, proposing pursuant to section 408(d) of the Federal Food, Drug, and Cosmetic Act (FFDCA), 21 U.S.C. 346a(d), to amend 40 CFR part 180 by establishing a tolerance for residues of isoxadifen-ethyl, (ethyl 5,5-diphenyl-2-isoxazoline-3-carboxylate) and its metabolite 4,5-dihydro-5,5,diphenyl-3-isoxazolecarboxylic acid when used as an inert ingredient (safener) in or on the food commodities corn, sweet, kernel plus cob with husks removed at 0.05 ppm; corn, sweet, forage at 0.40 ppm; corn, sweet, stover at 0.40 ppm; corn, pop, grain at 0.02 ppm; and corn, pop, stover at 0.40 ppm. The analytical targets selected were the parent compound, isoxadifen-ethyl and the major metabolite isoxadifen acid (AE F129431). In rice, AE C637375 and AE F162241 are also determined. After extraction and clean-up, the analytes are determined by either GC/MS or HPLC/MS. The LOQ are 0.02 ppm in corn grain, 0.05 ppm in corn forage and stover, and 0.02 ppm in rice. Contact: Shaja R. Brothers, telephone number: (703) 308-3194; e-mail address: brothers.shaja@epa.gov.

2. PP 6E7164. (Docket ID number EPA-HQ-OPP-2007-0115). Interregional Research Project Number 4 (IR-4), 500 College Road East, Suite 201 W, Princeton, NJ 08540, proposes to establish a tolerance for residues of the fungicide boscalid, (BAS 510F), 3-pyridinecarboxamide, 2-chloro-N-(4'-chloro(1,1'-biphenyl)-2-yl) in or on food commodities avocado at 1.5 ppm; sapote, black at 1.5 ppm; canistel at 1.5 ppm; sopote, mamey at 1.5 ppm; mango at 1.5 ppm; papaya at 1.5 ppm; sapodilla at 1.5 ppm; star apple at 1.5 ppm; and herbs, fresh, subgroup 19A at 60.0 ppm. In plants the parent residue is extracted using an aqueous organic solvent mixture followed by liquid/liquid partitioning and a column clean-up. Quantitation is by GC using MS. In livestock the residues are extracted with methanol. The extract is treated with enzymes in order to release the conjugated glucuronic acid metabolite. The residues are then isolated by liquid/liquid partition followed by column chromatography. The hydroxylated metabolite is acetylated followed by a column clean-up. The parent and acetylated metabolite are quantitated by GC with electron capture detection. Contact: Shaja R. Brothers, telephone number: (703) 308-3194; e-mail address: brothers.shaja@epa.gov.

3. PP 6E7168. (Docket ID number EPA-HQ-OPP-2007-0114). Interregional Research Project Number 4 (IR-4), 500 College Road East, Suite 201 W, Princeton, NJ 08540, proposes to establish a tolerance for residues of fluroxypyr MHE, and its metabolite fluroxypyr (expressed as combined residues of total fluroxypyr) in or on food commodities pome, fruit, group 11 at 0.02 ppm; millet, grain at 0.5 ppm; millet, forage at 12.0 ppm; grass, hay at 20.0 ppm; millet, proso, grain at 0.5 ppm; millet, proso, straw at 12.0 ppm; millet, proso, forage at 12.0 ppm; millet, proso, hay at 20.0 ppm; millet, pearl, grain at 0.5 ppm; millet, pearl, forage at 12.0 ppm; and millet, pearl, hay at 20.0 ppm. Adequate enforcement method for the combined residues of total fluroxypyr is available to enforce the tolerance expression in or on food. The analytical method uses capillary GC and mass selective detection (MSD) with LOQ of 0.01 ppm. Fluroxypyr has also been tested through the Food and Drug Administration (FDA), Multi-residue Methodology, Protocols C, D, and E. The results have been published in the FDA Pesticide Analytical Manual, volume 1. Contact: Shaja R. Brothers, telephone number: (703) 308-3194; e-mail address: brothers.shaja@epa.gov.

Amended Exemption from Tolerance

PP 5E6996. (Docket ID number EPA-HQ-OPP-2005-0306). BASF Corporation, 100 Campus Drive, Florham Park, NJ 07932, proposes to amend an exemption from the requirement of a tolerance for residues of vitamin E (CAS no. 1406-18-4) by including the form of vitamin E alcohol (d-alpha tocopherol, CAS no. 59-02-9 and dl-alpha tocopherol, CAS no. 10191-41-0), and vitamin E Acetate (d-alpha tocopheryl acetate, CAS no. 58-95-7 and dl-alpha tocopheryl acetate, CAS no. 7695-91-2), in or on raw agricultural commodities when used as an ingredient in pesticide formulations used in accordance with good agricultural practices. Vitamin E is a chemical complex that includes eight naturally occurring homologues having a chromanol ring and a twelve-carbon aliphatic side chain containing two methyl groups in the middle and two or more methyl groups on the end. Vitamin E is found in many plant-derived foods and is believed to be necessary for human health. Vitamin E alcohol in the form of d-alpha tocopherol has the highest biological activity of the compounds in the vitamin E complex. Vitamin E alcohol and its ester, vitamin E acetate, are commonly consumed as dietary supplements. Vitamin E alcohol and vitamin E acetate are common food additives. Vitamin E alcohol is used as an antioxidant for foods or food chemicals. Vitamin E acetate is a common animal feed additive and is used widely in topical skin care products.

EPA has determined that the petition contains data or information regarding the elements set forth in section 408 (d)(2) of the FFDCA; however, EPA has not fully evaluated the sufficiency of the submitted data at this time or whether the data supports granting of the petition. Additional data may be needed before EPA rules on the petition. Because this petition is a request for an exemption from the requirement of a tolerance without numerical limitations, no analytical method is required. Contact: Kathleen Martin, telephone number: (703) 308-2857; e-mail address: martin.kathleen@epa.gov.

List of Subjects

Environmental protection, Agricultural commodities, Feed additives, Food additives, Pesticides and pests, Reporting and recordkeeping requirements.

Dated: March 22, 2007.
Donald R. Stubbs,
Acting Director, Registration Division, Office of Pesticide Programs.

[FR Doc. E7-6047 Filed 4-3-07; 8:45 am]

BILLING CODE 6560-50-S